DEPARTMENT OF LABOR

Employment and Training Administration

[TA-W-58,588]

EIC Corporation, Fremont, CA; Notice of Termination of Investigation

Pursuant to section 221 of the Trade Act of 1974, as amended, an investigation was initiated on January 6, 2006, in response to a worker petition filed by the State of California on behalf of workers at EiC Corporation, Fremont, California.

The petitioner has requested that the petition be withdrawn. Consequently, the investigation has been terminated.

Signed at Washington, DC this 3rd day of February 2006.
Elliott S. Kushner,
Certifying Officer, Division of Trade Adjustment Assistance.

[FR Doc. E6-2478 Filed 2-21-06; 8:45 am]

BILLING CODE 4510-30-P